DEPARTMENT OF HEALTH AND HUMAN SERVICES

Administration for Children and Families

Submission for OMB Review; Comment Request

Title: Affordable Care Act Tribal Maternal, Infant and Early Childhood Home Visiting Program Annual Report Guidance.

OMB No.: 0970-0409.

Description: Section 511(e)(8)(A) of the Social Security Act, as added by Section 2951 of the Affordable Care Act and amended by the Protecting Access to Medicare Act of 2014 and the Medicare Access and CHIP Reauthorization Act of 2015, requires that grantees under the Maternal, Infant, and Early Childhood Home Visiting (MIECHV) program for states and jurisdictions submit an annual and final report to the Secretary of Health and Human Services regarding the program and activities carried out under the program, including such data and information as the Secretary shall require. Section 511 (h)(2)(A) further states that the requirements for the MIECHV grants to tribes, tribal organizations, and urban Indian organizations are to be consistent, to the greatest extent practicable, with the requirements for grantees under the MIECHV program for states and jurisdictions.

The Administration for Children and Families, Office of Child Care, in collaboration with the Health Resources and Services Administration, Maternal and Child Health Bureau, has awarded grants for the Tribal Maternal, Infant, and Early Childhood Home Visiting Program (Tribal Home Visiting). The Tribal Home Visiting discretionary grants support cooperative agreements to conduct community needs assessments; plan for and implement high-quality, culturally-relevant, evidence-based home visiting programs in at-risk tribal communities; establish, measure, and report on progress toward meeting performance measures in six legislatively-mandated benchmark areas; and participate in rigorous evaluation activities to build the knowledge base on home visiting among Native populations.

Tribal Home Visiting grantees have been notified that in every year of their grant, after the first year, they must comply with the requirement for submitting an Annual Report to the Secretary that should feature activities carried out under the program during the past reporting period. In order to assist grantees with meeting the requirements of the Annual Report to the Secretary, ACF created guidance for grantees to use when writing their annual reports. ACF is requesting approval to renew and update the existing Tribal Home Visiting Guidance for Submitting an Annual Report to the Secretary (OMB Control No. 0970-0409) that will include instructions for grantees to submit either an annual or final report (in the final year of the grant) on the progress of their program to the Secretary, depending on the reporting period.

This Report Shall Address the Following:

• Update on Home Visiting Program Goals and Objectives

• Update on the Implementation of Home Visiting Program in Targeted Community(ies)

• Update on progress toward meeting Legislatively Mandated Benchmark Requirements

• Update on Rigorous Evaluation Activities

• Update on Home Visiting Program Continuous Quality Improvement (CQI) Efforts

• Update on Dissemination Activities

• Update on Technical Assistance Needs

Respondents: Tribal Maternal, Infant, and Early Childhood Home Visiting Program Managers (The information collection does not include direct interaction with individuals or families that receive the services).

Annual Burden Estimates
Instrument | Annual number of respondents | Number of responses per respondent | Total responses | Average burden hours per response | Total annual burden hours
Annual/Final Report to the Secretary (depending on reporting period) | 25 | 1 | 1 | 50 | 1250

Estimated Total Annual Burden Hours: 1,250.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2015-12693 Filed 5-26-15; 8:45 am]

BILLING CODE 4184-01-P